DEPARTMENT OF AGRICULTURE

Forest Service

Plan Revision for Uwharrie National Forest, NC

AGENCY: Forest Service, USDA.

ACTION: Notice of adjustment for resuming the land management plan revision process and Notice of commencement of the 90-day comment period for the Uwharrie National Forest Proposed Land Management Plan (hereafter referred to as the Proposed Plan).

SUMMARY: The USDA, Forest Service is resuming preparation of the Uwharrie National Forest (UNF) revised land management plan as directed by the National Forest Management Act (NFMA). Preparation of the revised plan was halted when the 2005 Forest Service planning rule was enjoined. A new planning rule (36 CFR Part 219) was implemented on April 21, 2008 allowing the planning process to be resumed. This notice resumes the plan revision process under the new planning rule.

Under the 2005 Rule the planning process had proceeded to the point of generating a Proposed Plan for public comment. A 90-day comment period for the Proposed Plan was initiated on February 15, 2007 but was not completed due to enjoinment of the 2005 Planning Rule on March 30, 2007. This notice serves to initiate a new 90-day public comment period on the Proposed Plan.

This notice provides:

1. Information on how to view and/or obtain copies of the Proposed Plan and the Comprehensive Evaluation Report.

2. Information on how the public can comment on the Proposed Plan, when those comments are due and, how comments can be submitted.

3. Who to contact for more information.

DATES: This notice is effective on February 25, 2009. Comments on the Proposed Plan must be received within 90 days after publication of this notice.

ADDRESSES: Submit written comments to: Uwharrie Plan Revision, National Forests in North Carolina, 160-A Zillicoa Street, Asheville, NC 28801. Electronic mail should include “Proposed Uwharrie Plan Revision” in the subject line and be sent to: comments-southern-north-carolina@fs.fed.us.

FOR FURTHER INFORMATION CONTACT: Ruth Bemer, Interdisciplinary Team Leader, National Forests in North Carolina, 160A Zillicoa Street, Asheville, NC 28801, 828-257-4862. More information on the UNF and Proposed Plan revision process is available at: http://www.cs.unca.edu/nfsnc/uwharrie_plan/.

Documents Available for Review

The following documents are available for review. They are available either online at: http://www.cs.unca.edu/nfsnc/uwharrie_plan/ or hardcopies are available by sending a request to comments-southern-north-carolina@fsfed.us or by contacting the address shown above.

1. Uwharrie National Forest Proposed Land Management Plan.

2. Comprehensive Evaluation Report, which includes the following separate documents:

• Terrestrial Ecosystem Sustainability

• Aquatic Ecosystem Sustainability

• Social Economic Sustainability and Social/Economic Overview

3. Timber Resource Analysis.

Comment Requested

The Forest Service is seeking comments from individuals, organizations, and federal, state, and local governments and agencies on the Uwharric National Forest Proposed Land Management Plan. Comments on the Proposed Plan should be submitted within 90-days beginning February 25, 2009. Comments previously submitted in 2007 will be considered and need not be resubmitted.

SUPPLEMENTARY INFORMATION: Notification of initiation of plan revision process for the Uwharric National Forest land management plan was provided in the Federal Register on November 18, 2005. The plan revision was initiated under the planning procedures contained in the 2005 Forest Service planning rule (36 CFR part 219 (2005)). On March 30, 2007, the federal district court for the Northern District of California enjoined the Forest Service from implementing and using the 2005 planning rule until the agency provided notice and comment and conducted an assessment of the rule's effects on the environment and completed consultation under the Endangered Species Act. Revision of the Uwharrie National Forest land management plan under the (36 CFR part 219 (2005)) rule was suspended in response to the injunction. On April 21, 2008 the Forest Service adopted a new planning rule. This rule (36 CFR part 219 (2008)) was adopted following completion of an environmental impact statement and consultation under the Endangered Species Act. This new planning rule explicitly allows the resumption of plan revisions started under the previous rule (36 CFR part 219 (2005)) based on a finding that the revision process conforms to the new planning rule (36 CFR 219.14(b)(3)(ii)).

Prior to injunction of the 2005 planning rule the Uwharrie National Forest had developed a Comprehensive Evaluation Report using relevant scientific information; undertaken a series of collaborative meetings with interested parties to develop plan components; and prepared a Proposed Plan. These planning process steps are the same as what is required under the 2008 Rule. Based on the discussions above, I find that the planning actions taken prior to April 21, 2008 conform to the planning process of the 2008 planning rule and for that reason the plan revision process does not need to be restarted. The Uwharrie National Forest is resuming its plan revision process by initiating a 90-day public comment period on the Proposed Plan.

Responsible Official

The Forest Supervisor, National Forests in North Carolina, is the Responsible Official (36 CFR 219.2(b)(1)).

(Authority: 16 U.S.C. 1600-1614; 36 CFR 219.14)

Dated: February 17, 2009.
Marisue Hilliard,
Forest Supervisor, National Forests in North Carolina.

[FR Doc. E9-3936 Filed 2-24-09; 8:45 am]

BILLING CODE 3410-11-P